FEDERAL COMMUNICATIONS COMMISSION

[FR ID 202962]

Open Commission Meeting Thursday, February 15, 2024

The Federal Communications Commission will hold an Open Meeting on the subjects listed below on Thursday, February 15, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Public Safety and Homeland Security | Title: Increasing the Accessibility of the Emergency Alert System (PS Docket No. 15-94).
|  | Summary: The Commission will consider a Notice of Proposed Rulemaking intended to simplify the process for alert originators to send multilingual emergency alerts over television and radio.
2 | Consumer and Governmental Affairs | Title: Empowering Consumers to Stop Robocalls and Robotexts (CG Docket No. 02-278).
|  | Summary: The Commission will consider a Report and Order and Further Notice of Proposed Rulemaking to strengthen consumers' ability to revoke consent so that it is simple and easy, codify previously adopted protections that make it simpler for consumers to revoke consent, and require that callers and texters implement requests in a timely manner. The item also proposes and seeks comment on how to apply the TCPA to robocalls and robotexts from wireless providers to their own subscribers and proposes to give consumers the ability to revoke consent and thereby stop these communications.
3 | Office of Engineering and Technology | Title: Expanding Opportunities for Wireless Microphone Use (ET Docket No. 21-115).
|  | Summary: The Commission will consider a Report and Order to revise the Part 15 and 74 technical rules to permit a recently developed, and more efficient, type of wireless microphone system.
4 | Space | Title: Space Innovation (IB Docket No. 22-271); Facilitating Capabilities for In-space Servicing, Assembly, and Manufacturing (IB Docket No. 22-272).
|  | Summary: The Commission will consider a Notice of Proposed Rulemaking that would propose a framework for licensing space stations engaged in in-space servicing, assembly, and manufacturing—or “ISAM”—operations that can support sustained economic activity in space. The goal of the proposed framework is to facilitate the development of these novel space activities and advance opportunities for innovation in the new space age.
5 | Media | Title: Restricted Adjudicatory Matter.
|  | Summary: The Commission will consider a restricted adjudicatory matter from the Media Bureau.
6 | Enforcement | Title: Enforcement Bureau Action.
|  | Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Dated: February 8, 2024.
Marlene Dortch,
Secretary.

[FR Doc. 2024-03048 Filed 2-14-24; 8:45 am]

BILLING CODE 6712-01-P